SECURITIES AND EXCHANGE COMMISSION

[Investment Company Act Release No. 28040; 812-13376]

MyShares Trust, et al.; Notice of Application

November 19, 2007.

Correction

In FR Document No. E7-21739, beginning on page 62701 for Tuesday, November 6, 2007, the release number was incorrectly stated. The release number is revised to read as noted above.

Florence E. Harmon,
Deputy Secretary.

[FR Doc. E7-22846 Filed 11-21-07; 8:45 am]

BILLING CODE 8011-01-P